DEPARTMENT OF DEFENSE

Office of the Secretary

[Docket ID: DoD-2013-OS-0077]

Privacy Act of 1974; System of Records

AGENCY: Defense Intelligence Agency, DoD.

ACTION: Notice to alter a System of Records.

SUMMARY: The Defense Intelligence Agency is proposing to alter a system to its existing inventory of records systems subject to the Privacy Act of 1974 (5 U.S.C. 552a), as amended.

DATES: This proposed action will be effective on May 17, 2013 unless comments are received which result in a contrary determination. Comments will be accepted on or before May 16, 2013.

ADDRESSES: You may submit comments, identified by docket number and title, by any of the following methods:

* Federal Rulemaking Portal: http://www.regulations.gov. Follow the instructions for submitting comments.

* Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, DAN 1-C, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address FOR FURTHER INFORMATION CONTACT.

The proposed system report, as required by 5 U.S.C. 552a of the Privacy Act of 1974, as amended, was submitted on April 1, 2013, to the House Committee on Oversight and Government Reform, the Senate Committee on Governmental Affairs, and the Office of Management and Budget (OMB) pursuant to paragraph 4c of Appendix I to OMB Circular No. A-130, “Federal Agency Responsibilities for Maintaining Records About Individuals, “dated February 8, 1996 (February 20, 1996, 61 FR 6427).

Dated: April 1, 2013.
Aaron Siegel,
Alternate OSD Federal Register Liaison Officer, Department of Defense.

LDIA 0271

System name:

Investigations and Complaints (June 2, 2010, 75 FR 30791).

Changes

* * * * *

System location:

Delete entry and replace with “Defense Intelligence Agency,600 MacDill Blvd., Washington, DC 20340-0001.”

Categories of individuals covered by the system:

Delete entry and replace with “Current and former civilian, military, or contract personnel and members of the public who file a complaint or who are the subject of an investigation conducted by the agency.”

Categories of records in the system:

Delete entry and replace with “Name, Social Security Number (SSN), date of birth, place of birth, telephone number and address if applicable along with documents relating to the organization, planning and execution of audits, inspections, or investigations.”

* * * * *

Purpose(s):

Delete entry and replace with “Information is collected to promote the economy, efficiency and effectiveness of Defense Intelligence Agency programs, functions and operations, and to prevent and detect fraud, waste and abuse. To conduct audits, inspections, investigations, intelligence oversight and workforce assistance.”

* * * * *

[FR Doc. 2013-08895 Filed 4-15-13; 8:45 am]

BILLING CODE 5001-06-P